DEPARTMENT OF HEALTH AND HUMAN SERVICES

Indian Health Service

Office of Clinical and Preventive Services; Dental Preventive and Clinical Support Centers Program

Announcement Type: New Grant.

Funding Announcement Number: HHS-2006-IHS-TDCP-0001.

Catalog of Federal Domestic Assistance Numbers: 93.933.

Key Dates: Application Deadline Date: July 17, 2006, 5 p.m. EST;

Review Date: July 24, 2006;

Anticipated Award Announcement Date: July 31, 2006;

Anticipated Start Date: August 1, 2006.

I. Funding Opportunity Description

The Indian Health Service (IHS) Division of Oral Health (DOH) requests competitive applications for funding of Dental Preventive and Clinical Support Centers (DPCSC) through a grant process. This program is authorized under the authority of the 25 U.S.C. 13, Snyder Act, and the 25 U.S.C. 1602(B) (21-26), Indian Health Care Improvement Act, and Public Health Service Act, section 301 (a), as amended. This program is described at 93.933 in the Catalog of Federal Domestic Assistance.

Support centers will combine existing resources and infrastructure with IHS Headquarters (HQ) and IHS Area resources in order to address the broad challenges and opportunities associated with IHS preventive and clinical dental programs.

1. Centers will provide technical assistance and resources for local and Area clinic-based and community-based oral health promotion/disease prevention (HP/DP) initiatives.

2. Centers are strongly encouraged to provide technical assistance and resources for local and Area clinical programs.

3. Centers are encouraged to provide technical assistance and resources for regional and national preventive and clinical initiatives.

4. Centers will send one or more representatives to national support centers project meetings convened by IHS HQ DOH. Such meetings will be held no more than annually. All centers are expected to reserve sufficient funds in annual budgets to send a representative to these meetings.

5. Centers will promote the coordination of research, demonstration projects, and studies relating to the causes, diagnosis, treatment, control, and prevention of oral disease. This will be addressed through the collection, analysis, and dissemination of data, or other basic research methodology deemed appropriate by the grantee and the IHS.

II. Award Information

Type of Award: Grant.

Estimated Funds Available: The total amount to be awarded for the project period is a maximum of $750,000 for four years.

Anticipated Number of Awards: 3 or less.

Anticipated Project Period: August 1, 2006—July 31, 2010.

Award Amount: Maximum $250,000 per year, for each award. This amount is inclusive of direct and indirect costs. Awards under this announcement are subject to the availability of funds. Continuation awards will be issued annually based on satisfactory performance, availability of funding, and continuing needs of the IHS. Requests for funding greater than $250,000 per year will not be considered, and will not be entered into the review process. Applicants will be notified if the application does not meet the submission requirements.

The DOH through its Project Officer will:

1. Provide information pertinent to program planning, program evaluation, and the evolving needs of the IHS DOH upon request.

2. Provide feedback concerning biannual reports and performance.

3. Provide a template for biannual reports.

III. Eligibility Information

1. Eligible Applicants

A. Federally-recognized Indian Tribe;

B. Urban Indian Organizations as defined by 25 U.S.C. 1603(h); and

C. Tribal organizations as defined by 25 U.S.C. 1603(e).

All non-profit Tribal organizations must provide proof of non-profit status with the application. See IV.2 for additional information.

Eligible applicants must be located within the following Areas: Aberdeen, Bemidji, Billings, California, Navajo, Oklahoma, Phoenix, and Tucson. Existing support centers that do not terminate prior to 1 August 2006 are not eligible to apply for funding under this announcement.

While multiple submissions from the same Area or region will be reviewed, only one award will be made to any one Area or region. Organizations in the same Area are encouraged to share resources in order to produce one strong proposal, rather than competing with each other.

2. Cost Sharing or Matching

The Support Centers Project does not require matching funds or cost sharing.

IV. Application and Submission Information

1. Web Address for Application Package

Application package (HHS-2006-IHS-TDCP-0001) may be found in Grants.gov.

Information regarding the electronic application process may be obtained from the following person: Michelle G. Bulls, Grants Policy Officer, Grants Policy Staff, Office of Management Support. (301) 443-6528, Direct line. (301) 443-2510, Fax. E-mail: michelle.bulls@ihs.gov.

Information regarding the Support Centers project may be obtained from the Project Official: Dr. Patrick Blahut, Division of Oral Health, HIS, 801 Thompson Ave, Suite 300, Rockville, MD, 20852. (301) 443-4323.

2. Content and Form of Application Submission if Prior Approval was Obtained for Paper Submission

A. Single spaced.

B. Typewritten.

C. Consecutively numbered pages.

D. Black type not smaller than 12 characters per one inch.

E. Submit on one side only of standard 8½ x 11 inch paper.

F. Do not tab, glue, or place in a plastic holder.

G. Narrative not to exceed 15 typed pages. The 15 page narrative does not include any standard forms, Tribal resolutions or letters of support (if deemed necessary), table of contents, budget, budget justifications, and/or other appendix items.

H. Content of the application should relate directly to the basic emphasis of the support center project, to provide support and technical assistance for:

(1) Clinical dental programs;

(2) Community-based preventive initiatives; and

(3) Clinic-based preventive programs. The narrative should address the proposed Support Center's commitment to:

a. Sound program planning and evaluation principles, outlining goals and anticipated results linked to outcome objectives, process objectives, and proposed activities;

b. A sound initial and on-going needs assessment;

c. Provide limited assistance and support to regional and national initiatives as deemed appropriate by the IHS Division of Oral Health HQ personnel;

d. Collaborate with other Support Centers through regional and national cooperative ventures;

e. Proactively share work products and lessons learned throughout the IHS dental program;

f. Reserve sufficient funding in each annual budget for one Support Center representative to attend a national meeting to be identified by the Project Officer;

g. Program accountability grounded in objectively assessed and documented progress toward stated program goals and objectives;

h. An evaluation protocol that directly addresses on an biannual basis all outcome and process objectives.

Examples of appropriate support and technical assistance can be obtained from the Program Official, though each applicant is encouraged to focus on the specific needs of the programs they propose to serve.

Public Policy Requirements: All Federal-wide public policies apply to IHS grants with the exception of Lobbying and Discrimination.

Non-profit Tribal organization must provide proof of non-profit status. The applicant must submit a current valid IRS tax exemption certificate or a copy or 501C3 form, as proof of status.

3. Submission Dates and Times

Only one application per Tribe or Tribal organization is allowed.

Applications must be submitted electronically through Grants.gov by Monday, July 17, 5 p.m. Eastern Standard Time (EST). If technical issues arise and the applicant is unable to successfully complete the electronic application process, the applicant must contact Michelle G. Bulls, Grants Policy Officer at least fifteen days prior to the application deadline and advise of the difficulties you are having submitting your application on line. The Grants Policy Officer will determine whether you may submit a paper application (original and 2 copies). The grantee must obtain prior approval, in writing, from the Grants Policy Staff allowing the paper submission. Otherwise, applications not submitted through Grants.gov may be returned to the applicant and will not be considered for funding. Mail the applications to the Division of Grants Operations at 801 Thompson Avenue, TMP 360, Rockville, MD 20852. IHS will not acknowledge receipt of applications.

Paper applications submitted with written permission from the Grants Policy Staff shall be considered as meeting the deadline if received before 5 p.m., EST July 17, 2006 or postmarked on or before the deadline date and time. Any additional information such as Tribal resolutions or letters of support received after the deadline will not be considered by the review committee. Applicants should request a legibly dated U.S. Postal Service postmark or obtain a legibly dated receipt from a commercial carrier or U.S. Postal Service. Private metered postmarks will not be acceptable as proof of timely mailing.

4. Intergovernmental Review

Executive Order 12372 requiring intergovernmental review is not applicable to this program.

5. Funding Restrictions

A. Pre-award costs are not allowable under this program.

B. The available funds are inclusive of direct and indirect costs.

C. One grant will be awarded per applicant.

D. One grant will be awarded per Area.

E. All funding for these grants will end after four years. It is anticipated another cycle of competitive funding will begin after this four-year cycle.

6. Other Submission Requirements

A. Current Tribal Resolution(s) or Letters of Support from Tribes to be served.

B. Cover letter, labeling the submission as a “Proposed Dental Clinical and Preventive Support Center” for one or more of the defined geographic areas listed under the eligibility section of this announcement.

C. Contact information for a primary author or contact.

D. Project Abstract (not to exceed one typewritten page).

E. Table of contents to correspond with numbered pages of the narrative and attachments.

F. Electronic Transmission: The preferred method for receipt of applications is electronic submission through Grants.gov Web site. However, should any technical problems arise regarding the submission, please contact Grants.gov Customer Support at (800) 518-4726 or e-mail your questions to support@grants.gov The Contact Center hours of operation are Monday-Friday from 7 a.m. to 9 p.m. EST. If you require additional assistance, please contact Ms. Michelle Bulls, Grants Policy Officer at (301) 443-6528 at least fifteen days prior to the application deadline. To submit an application electronically, please use the http://www.Grants.gov Web site. Download a copy of the application package from the Grants.gov Web site, complete it offline and then upload and submit the application via the Grants.gov Web site. You may not e-mail an electronic copy of a grant application. Otherwise, applications not submitted through Grants.gov may be returned to the applicant and it will not be considered for funding.

After you electronically submit your application, you will receive an automatic acknowledgment from Grants.gov that contains a Grants.gov tracking number. The IHS DGO will retrieve your application from Grants.gov Web site.

If it is determined that a grantee is not successful in submitting an electronic application, the organization must obtain prior approval, in writing, by the Grants Policy Officer, before submitting a paper application. If it is determined that a paper application is acceptable an original and 2 copies may be sent directly to the Division of Grants Operations, 801 Thompson Avenue, TMP 360, Rockville, MD 20852 by July 17, 2006.

(1) When you enter the Grants.gov Web site, you will find information about submitting an application electronically through the Web site, as well as the hours of operation. We strongly recommend that applicants not wait until the deadline date to begin the application process through Grants.gov Web site.

(2) To use Grants.gov, you, as the applicant, must have a DUNS number and register with the Central Contractor Registry (CCR). You should allow a minimum of five days to complete CCR registration. See below on how to apply.

(3) You must submit all documents electronically, including all information typically included on the SF-424 and all necessary assurances and certifications.

(4) Your application must comply with any page limitation requirements described in the program announcement. After you electronically submit your application, you will receive an automatic acknowledgment from Grants.gov that contains a Grants.gov tracking number. The IHS will retrieve your application from Grants.gov Web site.

(5) You may access the electronic application for this program on http://www.Grants.gov.

(6) Before you can view and complete an application package, you must download PureEdge viewer from Grants.gov.

(7) You may search for the downloadable application package by using the Funding Opportunity Number: HHS-2006-IHS-TDCP-0001 or the CFDA number 93.933.

(8) E-mail applications will not be accepted under this announcement.

G. DUNS Number: Applicants are required to have a Dun and Bradstreet (DUNS) number to apply for a grant from the Federal Government. The DUNS number is a nine-digit identification number, which uniquely identifies business entities. Obtaining a DUNS number is easy and there is no charge. To obtain a DUNS number, access http://www.dunandbradstreet.com or call 1-866-705-5711. Interested parties may wish to obtain their DUNS number by phone to expedite the process.

H. Applications submitted electronically must also be registered with the Central Contractor Registry (CCR). A DUNS number is required before CCR registration can be completed. Many organizations may already have a DUNS number. Please use the number listed above to investigate whether or not your organization has a DUNS number. Registration with the CCR is free of charge.

Applicants may register by calling 1-888-227-2423. Please review and complete the CCR “Registration Worksheet” located on http://www.grants.gov/CCRRegister.

More detailed information regarding these registration processes can be found at http://www.grants.gov.

V. Application Review Information

1. Criteria

A. Introduction and statement of perceived problems. Assessment of perceived local program needs. (12 points)

(1) Describe the existing problem, or perceived need for the support center.

(2) Describe the perceived needs of programs to be served.

(3) Describe in detail any needs assessment done or planned.

(4) Discuss the breadth of coverage in your region or area. If some facilities in the region will not be served, identify them and provide the criteria for exclusion (there is no requirement that all programs will be served).

(5) Summarize the proposed efforts or type of support to be provided.

(6) Describe how the proposed efforts compliment existing infrastructure to provide support appropriate to address identified problems and needs.

B. Program goals and objectives. (20 points)

(1) State long term goals or outcome objectives, and the annual process objectives or milestones of the project. Describe how these objectives will address the clinical and preventive needs of dental programs in the region.

(2) Describe the rationale for choosing your program goals over other possible proposed outcomes.

(3) Describe how meeting your annual or process objectives will lead to meeting your program goals.

(4) Describe briefly what the project intends to accomplish, the number of facilities to be served, and the estimated number of American Indians or Alaska Natives to benefit from the project.

C. Methodology, activities, work plan. (12 points)

(1) Describe the activities that will lead to attainment of objectives.

(2) Describe plans to periodically assess the perceived needs of local programs.

(3) If the connections between goals, annual objectives, and activities are not obvious, outline or explain them.

(4) Describe the individual activities, tasks, and projects needed to implement and complete this project. Describe how support center activities will complement existing initiatives, infrastructure, and support systems (if any).

(5) Describe the specific community-based and clinic-based preventive initiatives and activities you will stress. Approaches may be innovative, but must also be scientifically sound and evidence-based.

(6) What data will be collected? How will it be obtained, analyzed, and maintained? While collecting data describing activities is appropriate, attaining both annual and long-term outcomes and the data to document attainment is essential.

(7) Provide a work plan that is project specific, sound, effective and realistic.

D. Proposed budget. (12 points)

(1) Provide a categorical budget for the initial year of the project.

(2) Justify the proposed budget by specific line items, explaining why each line item is necessary and relevant to the goals and objectives of the project.

(3) If indirect costs are claimed, state the negotiated rate and explain how the amount requested was calculated. Include a copy of the current rate agreement. If a current rate agreement is not on file, include a copy of the indirect cost proposal that will be submitted to the cognizant agency.

(4) Provide, in summary form, proposed budgets for years two through four. Detail required in the initial budget is not necessary for subsequent years.

E. Anticipated results, deliverables. (12 points)

(1) Describe anticipated annual outcomes for the initial and subsequent years.

(2) Describe how these annual results relate to improved oral health and progress toward overall project goals and objectives.

(3) Describe in detail anticipated work products or deliverables.

(4) Proactive dissemination of information and deliverables is considered an integral, cooperative function of all support centers. Describe plans or mechanisms to pro-actively share deliverables, work products, results, and “lessons learned” with other support centers, IHS Areas, and IHS groups.

F. Evaluation. (20 points)

(1) Describe how the project will be evaluated. Describe how you will determine if the project has met identified needs and achieved stated objectives.

(2) Specify what will be measured, when the assessments will take place, and how the collected data will be analyzed and reported.

(3) Include a brief evaluation protocol for every program goal and annual objective that enables the reader to understand how progress will be assessed.

(4) Identify who will conduct the evaluation.

(5) What will be done with evaluation results? With whom will the results be shared? How will evaluative data be utilized to result in a better program?

(6) Describe how you will elicit feedback from programs served in order to stay responsive to evolving program needs.

G. Organization capabilities, personnel qualifications, resources. (12 points)

(1) Describe where the project will be housed. List available resources such as office furnishings, computers, and equipment.

(2) State the total overhead, administrative and indirect costs. Describe the services these payments will produce. An ideal center leverages existing infrastructure to maximize resources available for direct program support.

(3) Describe any plans for sustain ability, leveraging of resources, and collaborative efforts.

(4) List additional resources available to the proposed center, such as matching funds or collaborative agreements.

(5) Describe in detail any cost sharing or “in kind contributions.”

(6) Describe the qualifications and relevant experience of key personnel.

(7) There is no preference given for existing support centers. Achievements of current support centers are neither a substitute for a well-formulated plan nor addressed in the scoring criteria. New applicants are evaluated on a “level playing field” with existing support centers applying for a new cycle of competitive funding. Appropriate qualifications, experience, and accomplishments of key personnel can be listed to illustrate the capacity or to address program objectives and administer multifaceted interventions.

(8) Demonstrate the organization has systems and expertise to manage Federal funds. How will the project operate both financially and administratively?

(9) List the qualifications and experience of any consultants or contractors.

(10) Provide a scope of work or job description for key center positions. Descriptions will list duties and include desired qualifications and experience.

(11) Append resumes of key personnel, including consultants or contractors. Position descriptions will suffice if personnel have not yet been identified.

2. Review and Selection Process

Applications meeting eligibility requirements that are complete, responsive, and conform to this program announcement will be reviewed for merit by an ad hoc Objective Review Committee (ORC) appointed by the DOH. The review will be conducted in accordance with the IHS objective review procedures. The technical review process ensures selection of quality projects in a national competition for limited funding. The ORC may include IHS and non-IHS personnel; both Federal employees and non-Federal individuals may be utilized as reviewers. HQ DOH personnel may be present to answer procedural questions or provide general, background information as requested by reviewers. Reviewers will remain anonymous to applicants and support center personnel.

Each proposal will receive multiple reviews, with discussion by all reviewers facilitated by assigned primary and secondary reviewers. A final score will be determined from an average of all individual scores submitted by reviewers. Submissions scoring 60% or above will be considered for funding. The scoring of approved applications will assist the IHS DOH in determining which proposals will be funded if the amount of funding is not sufficient to support all approved applications. Proposed budgets may be revised at the suggestion of the reviewers. The results of the objective review and the selection of proposals to be awarded funds are considered final.

VI. Award Administration Information

1. Award Notices

Applicants approved and funded will be notified through the Financial Assistance Award (FAA) document via postal mail to the authorized official. The FAA will serve as the official notification of an award of a grant, and will state the amount of Federal funds awarded, the purpose of the award, the terms and conditions of the award, the effective date of the award, the project period, and the budget period. Any other correspondence to the applicant's Project Director or primary contact is not an authorization to begin performance. The FAA will be signed by the Grants Management Officer and will serve as the authorizing document for which funds are disbursed to the recipients.

Pre-award costs are not allowable charges under this program grant.

2. Administrative and National Policy Requirements

Collaborative agreements are administered in accordance with the following documents:

A. This announcement.

B. Grant Terms and Conditions as outlined in the FAA.

C. 45 CFR part 92, “Uniform Administrative Requirements for Grants and Cooperative Agreements to State, Local, and Tribal Governments”, or 45 CFR part 74, “Uniform Administration Requirements for Awards and Subawards to Institutions of Higher Education, Hospitals, Other NonProfit Organizations, and Commercial Organizations”.

D. Public Health Service Grants Policy Statement, Revised April 1994.

E. Appropriate Cost Principles: OMB Circular A-87, “State, Local, and Indian Tribal Governments,” or OMB Circular A-122, “NonProfit Organizations”.

F. OMB Circular A-133, “Audits of States, Local Governments, and NonProfit Organizations”.

G. Other Applicable OMB circulars.

3. Reporting

A. Reports of Progress—Program progress reports are required biannually, submitted within 30 days of the end of the half year. A final report must be submitted within 90 days of the project period end date.

B. Financial Status Report—Financial Status Reports (FSR) must be submitted annually, 30 days after the end of the budget period. The final report is due 90 days after the project period end date. The FSR can be downloaded from http://www.whitehouse.gov/omb/grants/sf269.pdf.

C. A brief narrative describing how all work-products were shared throughout IHS dental, and how they were archived at a location easily accessible to all IHS dental programs, will be included in progress reports.

D. Failure to submit required reports within the time allowed may result in one or more of the following:

(1) The imposition of additional reporting requirements.

(2) The non-funding or non-award of other eligible projects or activities.

(3) Rejection of the request for continuation of funding.

Item VI.3D. applies whether the delinquency is attributable to the failure of the funded organization or the individual responsible for preparation of the reports.

VII. Agency Contacts

For questions about the application process, administrative information, or programmatic information, please contact the following at:

Program Contact, Orie Platero, Office of Clinical & Preventive Service, Indian Health Service, 801 Thompson Ave., Suite 326, Rockville, Maryland 20852. (301) 443-2522.

Grants Contact, Denise E. Clark, Division of Grants Operations, Indian Health Service, 801 Thompson Ave., TMP 360, Rockville, Maryland 20852. (301) 443-5204.

For program information, issues related to preventive dentistry, public health, or other programmatic content, contact: Patrick Blahut, D.D.S., M.P.H., Deputy Director, Division of Oral Health, 801 Thompson Ave., Suite 332, Rockville, Maryland 20852. (301) 443-4323. patrick.blahut@ihs.gov.

VIII. Other Information

A. Tribal Resolution—If the applicant is an Indian Tribe or Tribal organization, a resolution from the Tribal government of all Tribes to be served supporting the project must accompany the application submission. Applications by Tribal organizations will not require resolutions if the current Tribal resolutions under which they operate would encompass the proposed support center activities. In this instance a copy of the current resolution must accompany the application. The list of Tribes to be served by the support center in the proposal must match the set of appended resolutions. If a resolution from an appropriate representative of each Tribe to be served is not submitted, the application may be considered incomplete and will not be considered for funding. No documents will be accepted as separate mailings to be added to proposals; all documents, letters of support, Tribal resolutions, and so on must accompany the submission as one complete proposal.

B. Letters of Cooperation/Collaboration/Assistance.

If an applicant proposes to provide training or technical assistance for a dental program operated directly by the IHS, a letter of support must be submitted by:

(1) The IHS Area Director, or

(2) The Local Service Unit Director, or

(3) His designated representative.

C. The Department of Health and Human Services (HHS) is committed to achieving health promotion and disease prevention of Healthy People 2010, a HHS led activity for setting priority areas. Potential applicants may obtain a printed copy of Healthy People 2010, (Summary Report No. 017-001-00549-15250-7945, (202) 512-1800). You may also access this information at the following Web site: http://www.healthypeople.gov/Publications.

D. Smoke-Free Workplace:

The HHS strongly encourages all grant recipients to provide a smoke-free workplace and promote non-use of all tobacco products. This is consistent with the HHS mission to protect and advance the physical and mental health of the American people. If an applicant is able to provide a smoke-free workplace, it should be stated in the application.

Dated: May 26, 2006.
Robert G. McSwain,
Deputy Director, Indian Health Service.

[FR Doc. E6-8634 Filed 6-2-06; 8:45 am]

BILLING CODE 4165-16-P